DEPARTMENT OF THE INTERIOR

National Park Service

Boston Harbor Islands National Recreation Area Advisory Council; Notice of Public Meeting

AGENCY: Department of the Interior, National Park Service, Boston Harbor Islands National Recreation Area.

ACTION: Notice of meeting.

SUMMARY: Notice is hereby given that a meeting of the Boston Harbor Islands National Recreation Area Advisory Council will be held on Wednesday, June 4, 2008, at 4 p.m. to 6 p.m. at Massachusetts State House, 24 Beacon Street, Gardner Auditorium, Boston, MA 02133.

This will be a quarterly meeting of the Council. The agenda will include a discussion of a proposal for a learning center, next steps for the council, report from the Superintendent, and public comment.

The meeting will be open to the public. Any person may file with the Superintendent a written statement concerning the matters to be discussed. Persons who wish to file a written statement at the meeting or who want further information concerning the meeting may contact Superintendent Bruce Jacobson at (617) 223-8667.

DATES: June 4, 2008 at 4 p.m.

ADDRESSES: Massachusetts State House, 24 Beacon Street, Gardner Auditorium, Boston, MA 02133.

FOR FURTHER INFORMATION CONTACT: Superintendent Bruce Jacobson, (617) 223-8667.

SUPPLEMENTARY INFORMATION: The Advisory Council was appointed by the Director of National Park Service pursuant to Public Law 104-333. The 28 members represent business, educational/cultural, community and environmental entities; municipalities surrounding Boston Harbor; Boston Harbor advocates; and Native American interests. The purpose of the Council is to advise and make recommendations to the Boston Harbor Islands Partnership with respect to the development and implementation of a management plan and the operations of the Boston Harbor Islands NRA.

Dated: April 28, 2008.
Bruce Jacobson,
Superintendent, Boston Harbor Islands NRA.

[FR Doc. E8-10992 Filed 5-15-08; 8:45 am]

BILLING CODE 4310-86-P